DEPARTMENT OF THE INTERIOR

Bureau of Land Management

(NV-030-1430-ES; N-65834)

Realty Action: Recreation and Public Purposes Act Classification; Churchill County, NV

AGENCY: Bureau of Land Management, Interior.

ACTION: Notice of realty action.

SUMMARY: The following federal land in Churchill County, Nevada has been examined and found suitable for classification for lease/conveyance to the Churchill County under the provisions of the Recreation and Public Purposes (R&PP) Act, as amended (43 U.S.C. 869 et seq.):

Mt. Diablo Meridian

T. 18 N., R. 29 E.

Sec. 21, SE¼SE¼SE¼.

(containing 10 acres, more or less)

Churchill County proposes to use the land for an animal protection facility. The land is located near the intersection of Berney and Pasture Roads, near the Fallon Naval Air Station. The land is not needed for federal purposes. Lease/conveyance is consistent with current BLM land use planning and would be in the public interest. Issuance of a 5-year lease with a purchase option is proposed. The lease/patent when issued, will be subject to the provisions of the R&PP Act and to all applicable regulations of the Secretary of the Interior, and will contain the following reservations to the United States:

1. A right-of-way thereon for ditches and canals constructed by the authority of the United States, Act of August 30, 1890 (43 U.S.C. 945).

2. All mineral deposits in the land so patented, and to it, or persons authorized by it, the right to prospect, mine and remove such deposits from the same under applicable law and regulations to be established by the Secretary of the Interior.

Upon publication of this notice in the Federal Register, the land will be segregated from all forms of appropriation under the public land laws, including the general mining laws, except for lease or conveyance under the Recreation and Public Purposes Act and leasing under the mineral leasing laws. For a period of 45 days after publication of this notice, interested parties may submit comments regarding the proposed lease/conveyance or classification to the Acting Assistant Manager, Non-Renewable Resources, Bureau of Land Management, Carson City Field Office, 5665 Morgan Mill Road, Carson City, NV 89701.

Classification Comments: Interested parties may submit comments involving the suitability of the land for an animal protection facility. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for an animal protection facility. Any adverse comments will be reviewed by the State Director. In the absence of any adverse comments, the classification will become effective 60 days from the date of publication of this notice in the Federal Register. The land will not be offered for lease/conveyance until after the classification becomes final.

SUPPLEMENTARY INFORMATION: Comments, including names and street addresses of respondents will be available for public review at the Carson City Field Office during regular business hours. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Dated this 2nd day of February, 2001.
Richard Conrad,
Assistant Manager, Non-Renewable Resources, Carson City Field Office.

[FR Doc. 01-3894 Filed 2-15-01; 8:45 am]

BILLING CODE 4310-HC-P